DEPARTMENT OF LABOR

Advisory Committee on Veterans' Employment, Training and Employer Outreach (ACVETEO): Charter Renewal

AGENCY: Veterans' Employment and Training Service (VETS), Department of Labor (DOL).

ACTION: Notice of ACVETEO Charter Renewal.

SUMMARY: In accordance with section 4110 of Title 38, U.S. Code, and the provisions of the Federal Advisory Committee Act (FACA) and its implementing regulations issued by the U.S. General Services Administration (GSA), the Secretary of Labor is renewing the charter for the Advisory Committee on Veterans' Employment, Training, and Employer Outreach (ACVETEO).

SUPPLEMENTARY INFORMATION: The ACVETEO's responsibilities are to: (a) assess employment and training needs of veterans and their integration into the workforce; (b) determine the extent to which the programs and activities of the Department of Labor (DOL) are meeting such needs; (c) assist the Assistant Secretary for Veterans' Employment and Training (ASVET) in conducting outreach to employers with respect to the training and skills of veterans and the advantages afforded employers by hiring veterans; (d) make recommendations to the Secretary of Labor, through the ASVET, with respect to outreach activities and the employment and training needs of veterans; and (e) carry out such other activities deemed necessary to make required reports and recommendations under section 4110(f) of Title 38, U.S. Code.

Per section 4110(c)(1) of Title 38, U.S. Code, the Secretary of Labor shall appoint at least twelve, but no more than sixteen, individuals to serve as Special Government Employees of the ACVETEO as follows: seven individuals, one each from the following organizations: (i) the Society for Human Resource Management; (ii) the Business Roundtable; (iii) the National Association of State Workforce Agencies; (iv) the United States Chamber of Commerce; (v) the National Federation of Independent Business; (vi) a nationally recognized labor union or organization; and (vii) the National Governors Association. The Secretary shall appoint not more than five individuals nominated by veterans' service organizations that have a national employment program and not more than five individuals who are recognized authorities in the fields of business, employment, training, rehabilitation, or labor and who are not employees of DOL. Members will serve as Special Government Employees.

The ACVETEO will function in compliance with the provisions of the FACA, and its charter will be filed under the FACA. For more information, contact Gregory B. Green, Designated Federal Official, ACVETEO, U.S. Department of Labor, 200 Constitution Ave. NW, Washington, DC 20210; via email to Mr. Gregory Green, Designated Federal Official for the ACVETEO, ACVETEO@dol.gov, (202) 693-4734.

Signed in Washington, DC, this 7th day of May 2025.
Juana M. Devlin,
Deputy Assistant Secretary, Veterans' Employment and Training Service.

[FR Doc. 2025-08461 Filed 5-14-25; 8:45 am]

BILLING CODE 4510-79-P